FEDERAL COMMUNICATIONS COMMISSION

Public Information Collection Requirement Submitted to OMB for Emergency Review and Approval

October 19, 2007.

SUMMARY: The Federal Communications Commission, as part of its continuing effort to reduce paperwork burden, invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 23, 2007. If you anticipate that you will be submitting comments, but find it difficult to do so within the period of time allowed by this notice, you should advise the contacts listed below as soon as possible.

ADDRESSES: Direct all PRA comments to Nicholas A. Fraser, Office of Management and Budget, via e-mail to nfraser@omb.eop.gov or via fax at 202-395-5167, and to the Federal Communications Commission via e-mail to PRA@fcc.gov or by U.S. mail to Leslie F. Smith, Federal Communications Commission, Room 1-C216, 445 12th Street, SW, Washington, DC 20554.

FOR FURTHER INFORMATION CONTACT: For additional information about the information collection(s), contact Leslie F. Smith via e-mail at PRA@fcc.gov or call (202) 418-0217. To view a copy of this information collection request (ICR) submitted to OMB: (1) Go to http://www.reginfo.gov/public/do/PRAMain (an OMB/GSA web page), (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the title of this ICR (or its OMB control number) and then click on the ICR Reference Number to view detailed information about this ICR.

SUPPLEMENTARY INFORMATION: The Commission has requested approval of these information collection requirements under the emergency processing provisions of the PRA by December 7, 2007.

OMB Control Number: 3060-0715.

Title: Telecommunications Carriers' Use of Customer Proprietary Network Information (CPNI) and Other Customer Information, CC Docket No. 96-115.

Form Number: N/A.

Type of Review: Revision of a currently approved collection.

Respondents: Business or other for-profit entities.

Number of Respondents: 6,017 respondents.

Estimated Time per Response: 58.29 hours.

Frequency of Response: On occasion, annual, and one time reporting requirements; Recordkeeping; and Third party disclosure.

Obligation to Respond: Required to obtain or retain benefits.

Total Annual Burden: 350,704 hours.

Total Annual Cost: $3,000,000.

Privacy Act Impact Assessment: The information collection requirements do not have a direct impact on individuals or households, and thus there are no impacts under the Privacy Act.

Nature and Extent of Confidentiality: To the extent that the customer proprietary network information includes proprietary information, respondents are required to take adequate measures to protect this confidentiality.

Needs and Uses: On January 12, 2007, President George W. Bush signed into law the “Telephone Records and Privacy Protection Act of 2006,” which responded to the problem of “pretexting,” or seeking to obtain unauthorized access to telephone records, by making it a criminal offense subject to fines and imprisonment. In particular, pretexting is the practice of pretending to be a particular customer or other authorized person in order to obtain access to that customer's call detail or other private communications records. The Telephone Records and Privacy Protection Act of 2006 Act found that such unauthorized disclosure of telephone records is a problem that “not only assaults individual privacy but, in some instances, may further acts of domestic violence or stalking, compromise the personal safety of law enforcement officers, their families, victims of crime, witnesses, or confidential informants, and undermine the integrity of law enforcement investigations.”

On April 2, 2007, the Commission released the Report and Order and Further Notice of Proposed Rulemaking, Implementation of the Telecommunications Act of 1996: Telecommunications Carriers' Use of Customer Proprietary Network Information and Other Customer Information; IP-Enabled Services, CC Docket No. 96-115, WC Docket No. 04-36, FCC 07-22, which responded to the practice of pretexting by strengthening its rules to protect the privacy of customer proprietary network information (CPNI) that is collected and held by providers of communications services. Section 222 of the Communications Act requires telecommunications carriers to take specific steps to ensure that CPNI is adequately protected from unauthorized disclosure. Pursuant to section 222, the Commission adopted new rules focused on the efforts of providers of communications services to prevent pretexting. These rules require providers of communications services to adopt additional privacy safeguards that, the Commission believes, will sharply limit pretexters' ability to obtain unauthorized access to the type of personal customer information from carriers that the Commission regulates. In addition, in furtherance of the Telephone Records and Privacy Protection Act of 2006, the Commission's rules help ensure that law enforcement will have necessary tools to investigate and enforce prohibitions on illegal access to customer records.

Federal Communications Commission.
Marlene H. Dortch,
Secretary.

[FR Doc. E7-20936 Filed 10-23-07; 8:45 am]

BILLING CODE 6712-01-P